DEPARTMENT OF THE INTERIOR

Fish and Wildlife Service

[FWS-R6-R-2012-N058; FF06R06000-FXRS1265066CCP0S2-123]

Lee Metcalf National Wildlife Refuge, Stevensville, MT; Draft Comprehensive Conservation Plan and Environmental Assessment

AGENCY: Fish and Wildlife Service, Interior.

ACTION: Notice of availability; request for comments; announcement of public meeting

SUMMARY: We, the U.S. Fish and Wildlife Service (Service), announce the availability of a Draft Comprehensive Conservation Plan (CCP) and Environmental Assessment (EA) for Lee Metcalf National Wildlife Refuge, Stevensville, MT, for public review and comment. This Draft CCP/EA describes our proposal for managing the refuge for the next 15 years.

DATES: To ensure consideration, please submit your written comments by April 30, 2012 in person or send them to one of the addresses, including email and fax, listed below. We will also be holding a public meeting, which will be announced in the statewide news media and on the refuge Web site.

ADDRESSES: You may submit comments or requests for copies or more information by any of the following methods. You may request a hard copy of the document or view it on the Service's planning Web site, http://www.fws.gov/mountain-prairie/planning/ccp/mt/lmc/lmc.html.

Email: leemetcalf@fws.gov. Include “Lee Metcalf Draft CCP and EA” in the subject line of the message.

Fax: Attn: Laura King, 406-644-2661.

U.S. Mail: Laura King, National Bison Range, 58355 Bison Range Road, Moiese, MT 59824.

In-Person Drop-off, Viewing, or Pickup: Call (406-777-5552) to make an appointment (necessary for view/pickup only) during regular business hours at the Lee Metcalf National Wildlife Refuge headquarters located at 4567 Wildfowl Lane, Stevensville, MT.

FOR FURTHER INFORMATION CONTACT: Laura King, 406-644-2211, extension 210 or email at leemetcalf@fws.gov.

SUPPLEMENTARY INFORMATION:

Introduction

With this notice, we continue the CCP process for Lee Metcalf National Wildlife Refuge. We started this process through a notice in the Federal Register (74 FR 50235), on September 30, 2009.

Lee Metcalf National Wildlife Refuge was established February 4, 1964, and has two purposes:

(1) “[F]or use as an inviolate sanctuary, or for any other management purpose, for migratory birds” (Migratory Bird Conservation Act); and

(2) “for (a) incidental fish and wildlife oriented recreational development, (b) the protection of natural resources, [and] (c) the conservation of endangered species or threatened species” (Refuge Recreation Act).

This refuge is located in Ravalli County, one of the fastest growing counties in the State of Montana, 2 miles north of Stevensville and 25 miles south of Missoula. Although it is one of the nation's smaller refuges, encompassing 2,800 acres, it is one of the few remaining undeveloped areas in the Bitterroot Valley. The refuge lies along the meandering Bitterroot River and is comprised of wet meadow and gallery and riverfront forest habitats and has created and modified wetlands. Riverfront forest includes early succession tree species such as black cottonwood and sandbar willow that are present near the active channel of the Bitterroot River and next to floodplain drainages. Gallery forest is dominated by cottonwood and ponderosa pine and is present on higher floodplain elevations along natural levees. Over 140,000 visitors come to this refuge annually to view and photograph wildlife, archery deer hunt, walk the refuge trails, or participate in interpretive programs in the indoor and outdoor classrooms. The Refuge provides habitat for raptors, including ospreys, and numerous songbird and waterbird species.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP as necessary, at least every 15 years in accordance with the Refuge Administration Act.

Public Outreach

The Service has involved the public, agencies, partners, and legislators throughout the planning process. At the beginning of the planning process, the Service initiated public involvement through a Federal Register notice and news releases in the statewide media. For initial public scoping, the Service held two open-house meetings, on September 29 and October 1, 2009, in Stevensville and Missoula, MT, respectively. These open houses were announced in local media and through the first planning update which was mailed to over 270 individuals and organizations. We have considered and evaluated all of the comments received, with many were incorporated into the various alternatives addressed in the draft CCP and the EA.

CCP Alternatives We Are Considering

During the public scoping process with which we started work on this draft CCP, we, other governmental partners, Tribes, and the public raised several issues. Our draft CCP addresses the issues that were raised. To address these issues, we developed and evaluated the following alternatives, summarized below.

Alternative A, Current Management (No Action)

Alternative A is the no-action alternative, which represents the current management of the refuge. This alternative provides the baseline against which to compare the other alternatives. It also fulfills the requirement in the National Environmental Policy Act that a no-action alternative be addressed in the analysis process.

Under alternative A, management activity currently conducted by the Service would remain the same. The Service would continue to manage and monitor refuge habitats at current levels. The Bitterroot River would continue to migrate through the refuge, eroding some levees and trails. Invasive species would be treated primarily with mechanical and chemical methods as resources become available. Water supply and management structures would be inadequate to properly manage many of the wetland impoundments. Cattail monocultures would be treated. The current staff of five would perform limited, issue-driven research and monitor only long-term wildlife and vegetation changes. Visitor services programs and facilities would be maintained or expanded as resources become available. Funding and staff levels would follow annual budget allocations provided for refuge operations on Service lands.

Alternative B (Proposed Action)

This alternative focuses on the expansion and restoration of native plant communities on the refuge, including grasslands, shrublands, and gallery and riverfront forests. Some areas that are currently part of wetland impoundments would be restored to native communities, including forest and shrubland. A significant focus of restoration proposals would be controlling invasive species and preventing further spread. Grasses and shrubs native to the uplands, including the alluvial fans, would begin to be restored to provide habitat for native wildlife, including grassland-dependent migratory birds. Some wetland impoundments and Service (nonpublic) roads would be removed or reduced in size to allow for river migration and to restore native gallery and riverfront forest for riparian-dependent wildlife. The remaining impoundments would be managed to mimic natural conditions for wetland-dependent migratory birds.

The Service would expand and improve the refuge's compatible wildlife-dependent public use programs, in particular the wildlife observation, environmental education, and interpretation programs. The visitor contact area would be expanded into a visitor center, with new displays and a combination conference room and environmental education classroom. New displays would be professionally planned and produced. The refuge would work with Ravalli County staff to designate the county road in the refuge as an auto tour route, which would include pulloffs and some form of interpretation. A seasonal hiking trail would be added, and current trails would be improved for wildlife observation and photography. Interpretation and environmental education programs would be expanded, using added staff and volunteers. All public use programs would provide visitors a consistent message about the purposes and values of the refuge and the mission of the Refuge System. The refuge staff would be expanded to include an assistant refuge manager, two biological science technicians (one full time and one career seasonal), and a visitor services specialist who would serve as a visitor center manager and volunteer coordinator.

Increased research and monitoring, staff, funding, infrastructure, and partnerships would be required to accomplish the goals, objectives, and strategies associated with this alternative. Additional staff and funding would be added depending on the regional priorities for those funds allocated to the Service for management of lands and waters within the Refuge System.

Alternative C

Alternative C contains many of the elements found in alternative B related to expanding visitor service programs and facilities. However, habitat management would be focused on maintaining the wetland impoundments and attempting to restrict the movements of the Bitterroot River throughout the refuge. Habitat efforts would be primarily focused on providing waterfowl and other waterbird habitat.

Public Meeting

A public meeting, to be held at the refuge headquarters in Stevensville, MT, will be announced through the local media and the refuge's Web site www.fws.gov/leemetcalf.

Next Steps

After this comment period ends, we will analyze the comments and address them in the form of a final CCP and NEPA finding.

Public Availability of Comments

Before including your address, phone number, email address, or other personal identifying information in your comment, you should be aware that your entire comment—including your personal identifying information—may be made publicly available at any time. While you can ask us in your comment to withhold your personal identifying information from public review, we cannot guarantee that we will be able to do so.

Dated: February 29, 2012.
Matt Hogan,
Acting Deputy Regional Director, Mountain-Prairie Region, U.S. Fish and Wildlife Service.

[FR Doc. 2012-7398 Filed 3-27-12; 8:45 am]

BILLING CODE 4310-55-P